DEPARTMENT OF HOMELAND SECURITY

Transportation Security Administration

Intent To Request Extension From OMB of One Current Public Collection of Information: TSA End of Course Level 1 Evaluation—Instructor-Led Classroom Training

AGENCY: Transportation Security Administration, DHS.

ACTION: 60-Day notice.

SUMMARY: The Transportation Security Administration (TSA) invites public comment on one currently approved Information Collection Request (ICR), Office of Management and Budget (OMB) control number 1652-0041, that we will submit to OMB for an extension in compliance with the Paperwork Reduction Act (PRA). The ICR describes the nature of the information collection and its expected burden. The collection involves the submission of ratings and written comments about the quality of training instruction from TSA students who successfully complete TSA instructor-led classroom training, including civilian Canine Training Center (CTC) students who graduate from the Explosives Detection Canine Handler Course, Passenger Screening Canine Handler Course, Bridge Course, or the Law Enforcement Supervisors Course.

DATES: Send your comments by January 14, 2022.

ADDRESSES: Comments may be emailed to TSAPRA@dhs.gov or delivered to the TSA PRA Officer, Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0041; TSA End of Course Level 1 Evaluation—Instructor-Led Classroom Training. TSA's CTC delivers instructor-led classroom training, including the Explosives Detection Canine Handler Course, Passenger Screening Canine Handler Course, Bridge Course, and the Law Enforcement Supervisor Course to TSA, and state and local civilian personnel. State and local civilian personnel (primarily, law enforcement agencies that are responsible for the security at airports throughout the United States) participate in this classroom training under agency-specific cooperative agreements with TSA's National Explosives Detection Canine Team Program. This information collection captures ratings and written comments from students about the quality of the training. The CTC collects the evaluation data to determine students' satisfaction with their learning experience and provides it to representatives at both TSA headquarters and at CTC (e.g., to the Branch Manager, Deputy Branch Manager, and CTC instructional staff and supervisors) to improve the course curriculum and course of instruction.

TSA estimates an average of 156 students will complete the evaluations annually. The estimated burden is approximately 30 minutes (0.5 hours) per participant, or total of 78 hours per calendar year to read, answer, and submit the evaluation questions.

Dated: November 9, 2021.
Christina A. Walsh,
TSA Paperwork Reduction Act Officer, Information Technology.

[FR Doc. 2021-24885 Filed 11-12-21; 8:45 am]

BILLING CODE 9110-05-P